DEPARTMENT OF COMMERCE

National Oceanic and Atmospheric Administration

15 CFR Part 902

50 CFR Part 679

[Docket No. 020718172-2303-02; I.D. 051402C]

RIN 0648-AQ08

Fisheries of the Exclusive Economic Zone Off Alaska; Steller Sea Lion Protection Measures for the Groundfish Fisheries Off Alaska

Correction

In rule document 02-32844 beginning on page 204 in the issue of January 2, 2003, make the following corrections:

1. On page 204, in the first column, the CFR part listings should read as set forth above.

§679.23 [Corrected]

2. On page 214, in the third column, in §679.23, starting ten lines from the bottom, the following text should appear following §679.23(d)(2)(iv):

(3) Directed fishing for Pacific cod (i) Hook-and-line, pot, or jig gear. Subject to other provisions of this part, directed fishing for Pacific cod with hook-and-line, pot, or jig gear in the Western and Central Regulatory Areas is authorized only during the following two seasons:

(A) A season. From 0001 hours, A.l.t., January 1 through 1200 hours, A.l.t., June 10; and

[FR Doc. C2-32844 Filed 1-16-03; 8:45 am]

BILLING CODE 1505-01-D